DEPARTMENT OF COMMERCE

International Trade Administration

Antidumping or Countervailing Duty Order, Finding, or Suspended Investigation; Opportunity To Request Administrative Review; Correction

AGENCY: Import Administration, International Trade Administration, Department of Commerce.

SUMMARY: This is a correction to the notice of Antidumping or Countervailing Duty Order, Finding, or Suspended Investigation; Opportunity to Request Administrative Review, 71 FR 69543 (December 1, 2006).

DATES: Effective Date: December 18, 2006.

FOR FURTHER INFORMATION CONTACT: Sheila E. Forbes, Office of AD/CVD Operations, Office 4, Import Administration, International Trade Administration, U.S. Department of Commerce, 14th Street and Constitution Avenue, NW., Washington, DC 20230, telephone: (202) 482-4697.

Background

On December 1, 2006, the Department of Commerce (“the Department”) published in the Federal Register, the Antidumping or Countervailing Duty Order, Finding, or Suspended Investigation; Opportunity to Request Administrative Review, for cases with December anniversary dates. In that notice the period of review listed for the following cases were incorrect. The correct periods of review are listed below.

| Period
Countervailing Duty Proceedings
INDIA: Certain Hot-Rolled Carbon Steel Flat Products C-533-821 | 1/1/06-12/31/06
INDONESIA: Certain Hot-Rolled Carbon Steel Flat Products C-560-813 | 1/1/06-12/31/06

This notice is not required by statute but is published as a service to the international trading community.

Dated: December 12, 2006.
Stephen J. Claeys,
Deputy Assistant Secretary for Import Administration.

[FR Doc. E6-21510 Filed 12-15-06; 8:45 am]

BILLING CODE 3510-DS-P